DEPARTMENT OF COMMERCE

National Telecommunications and Information Administration

Digital to Analog Converter Box Coupon Public Meetings

AGENCY: National Telecommunications and Information Administration, U.S. Department of Commerce

ACTION: Notice of Meetings

SUMMARY: The National Telecommunications and Information Administration (NTIA) announces that it will be holding individual meetings with interested parties on November 14-15, 2006 in connection with its digital-to-analog converter box coupon program described in the July 25, 2006 “Request for Comment and Notice of Proposed Rules to Implement and Administer a Coupon Program for Digital-to-Analog Converter Boxes” (NPRM). All interested parties are invited to schedule an individual meeting.

DATES: The meetings will be held on November 14 and 15, 2006 from 9 a.m. to 5 p.m., Eastern Standard Time.

ADDRESSES: Meetings will be held at the U.S. Department of Commerce, National Telecommunications and Information Administration, 1401 Constitution Avenue, N.W., Washington, DC. Room numbers will be provided to interested parties when the meeting is scheduled.

FOR FURTHER INFORMATION CONTACT: Persons interested in scheduling a meeting should contact Sandra Stewart at (202) 482-2246.

SUPPLEMENTARY INFORMATION: NTIA is scheduling meetings to afford interested parties the opportunity to clarify comments submitted in response to the NPRM published by NTIA on July 25, 2006 (71 FR 42,067) regarding the implementation of a digital-to-analog converter box coupon program. Discussions will be limited to those subjects raised in the NPRM and no discussions are permitted with respect to the Request for Information published by NTIA on July 31, 2006, or other procurement related issues. These meetings will be considered ex parte presentations, and the substance of these meetings will be placed on the public record. At least two days after the meetings, parties should submit a memorandum to NTIA which summarizes the substance of the meetings. Any written presentations will be placed on the public record.

Individual meetings with interested parties will be scheduled from 9:00 a.m. to 5:00 p.m. on November 14 and 15 and are expected to last no longer than thirty minutes each. The meetings will be held at the Department of Commerce, National Telecommunications and Information Administration, 1401 Constitution Avenue, N.W., Washington, DC, 20230. Parties interested in scheduling meetings with NTIA must contact Sandra Stewart at (202) 482-2246 no later than November 10, 2006.

The meetings will be physically accessible to people with disabilities. Individuals requiring special services, such as sign language interpretation or other ancillary aids are asked to indicate this to Sandra Stewart at least two (2) days prior to the meeting.

Dated: November 3, 2006.
Kathy D. Smith,
Chief Counsel, National Telecommunications and Information Administration.

[FR Doc. E6-18828 Filed 11-7-06; 8:45 am]

BILLING CODE 3510-60-S